ENVIRONMENTAL PROTECTION AGENCY

40 CFR Parts 141 and 142

[FRL-9727-9]

Long Term 2 Enhanced Surface Water Treatment Rule: Public Meeting on Monitoring Data Analysis, Occurrence Forecasts, Binning, and the Microbial Toolbox

AGENCY: Environmental Protection Agency (EPA).

ACTION: Notice of public meeting.

SUMMARY: The U.S. Environmental Protection Agency (EPA) is hosting a public meeting on November 15, 2012, concerning monitoring, binning and microbial toolbox information as part of the regulatory review of the Long Term 2 Enhanced Surface Water Treatment Rule (LT2 rule). At this meeting, EPA plans to discuss and solicit public input on data and information related to several topics. The first topic is the results of the first round of LT2 Cryptosporidium monitoring that are used to determine which one of the four categories (i.e., bins) a public drinking water system (PWS) should be placed. The second topic is the implications of predicted occurrence and bin category placement that may result from a second round of Cryptosporidium monitoring using the existing or enhanced analytical methods. The third topic is the effectiveness of Escherichia coli as a screen to identify small filtered PWSs that need to perform Cryptosporidium monitoring for bin placement. The fourth topic is the determination of the potential credits assigned to different risk mitigation tools. EPA will also provide background information on the LT2 rule's monitoring and binning requirements, microbial toolbox options for risk management, and the agency's Six Year Review process. EPA will consider the data and/or information discussed at this meeting during the agency's review of the LT2 rule, which the agency has announced as part of both the Retrospective Review Plan under Executive Order (E.O.) 13563 and the third Six-Year Review under the Safe Drinking Water Act.

Date and Location: The public meeting will be held on Thursday, November 15, 2012 (8:00 a.m. to 5:00 p.m., Eastern Time). The public meeting will be held at the EPA East Building, Room 1153, 1201 Constitution Avenue NW., Washington, DC 20460.

FOR FURTHER INFORMATION CONTACT: For technical inquiries, contact César Cordero, Standards and Risk Management Division, Office of Ground Water and Drinking Water (MC 4607M), Environmental Protection Agency, 1200 Pennsylvania Ave. NW., Washington, DC 20460 at (202) 564-3716 or cordero.cesar@epa.gov. For more information about the LT2 rule or the Six-Year Review process, visit: http://water.epa.gov/lawsregs/rulesregs/sdwa/lt2/ or http://water.epa.gov/lawsregs/rulesregs/regulatingcontaminants/sixyearreview/index.cfm, respectively.

SUPPLEMENTARY INFORMATION: Registration: Individuals planning to participate in the public meeting must register at this Web site https://www.surveymonkey.com/s/LT2NovemberRegistration no later than November 9, 2012. Teleconferencing will be available for individuals unable to attend the meeting in person. EPA will do its best to include all those interested, but may have to limit attendance due to room and/or teleconference size limitations and therefore urges people to register early. Teleconference information will be emailed to registered participants in advance of the meeting. If you have any difficulty registering or have questions, please send an email to Morgan Hoenig of Ross Strategic at mhoenig@rossstrategic.com.

Special Accommodations: For information on access or accommodations for individuals with disabilities, please contact Jini Mohanty at (202) 564-5269 or by email at mohanty.jini@epa.gov. Please allow at least five business days prior to the meeting to give EPA time to process your request.

This meeting will be open to the public. EPA encourages public input and will allocate time on the agenda to receive verbal statements. EPA requests that participants limit statements to the topics described in the agenda and in the SUMMARY section of this notice. Participants will be provided with a set time frame for their statements. EPA also requests that only one person present a statement on behalf of a group or organization. Individuals or organizations interested in presenting a statement should notify Cesar Cordero by email at cordero.cesar@epa.gov no later than November 9, 2012. Individuals that have scientific data that they would like EPA to consider during the regulatory review of the LT2 rule are encouraged to email their data to Cesar Cordero at the email address listed in the FOR FURTHER INFORMATION CONTACT section by December 31, 2012.

The LT2 Rule: The purpose of the LT2 rule, promulgated in 2006 (71 FR 654; January 5, 2006), is to reduce disease incidence associated with Cryptosporidium and other disease-causing microorganisms in drinking water. The rule includes requirements for PWSs that provide filtration to be classified in one of four categories (bins) for additional Cryptosporidium treatment that may be needed based on the occurrence of Cryptosporidium or E. coli in their source waters. Systems that are placed into the first bin require no additional treatment, while systems that are placed into bins 2, 3 or 4 will need to conduct additional treatment but will be able to select from a range of treatment and management strategies (i.e. microbial toolbox options) to meet their treatment requirements.

EPA Reviews: The Safe Drinking Water Act (SDWA) requires EPA to review each existing national primary drinking water regulation (NPDWR) every six years and revise the regulation if appropriate (see SDWA Section 1412(b)(9)). Section 1412(b)(9) of SDWA specifies that any revision to a NPDWR “shall maintain, or provide for greater, protection of the health of persons.” In addition to reviewing the LT2 rule under the third Six-Year Review, EPA announced in the August 2011 document, Improving Our Regulations: Final Plan for Periodic Review Retrospective Reviews of Existing Regulations, that the agency would review the LT2 rule in response to E.O. 13563, which requires agencies to review regulations to determine where the agencies could streamline or eliminate ineffective, overly burdensome, and outdated rules. As part of these reviews, EPA plans to assess and analyze information and data regarding occurrence, analytical methods, and treatment to evaluate whether there are new or additional ways to manage risk.

The public meeting announced in this notice will be the third meeting hosted by the agency for the purpose of reviewing the LT2 rule in response to SDWA Section 1412(b)(9) and E.O. 13563. The first meeting occurred on December 7, 2011, and focused on the analytical methods for Cryptosporidium and the preliminary drinking water source monitoring results from samples collected under the LT2 rule. The second meeting occurred on April 24, 2012, and focused on the uncovered finished water reservoirs requirement of the LT2 rule.

Dated: September 6, 2012.
Pamela Barr,
Acting Director, Office of Ground Water and Drinking Water.

[FR Doc. 2012-23014 Filed 9-17-12; 8:45 am]

BILLING CODE 6560-50-P